FEDERAL COMMUNICATIONS COMMISSION

47 CFR Parts 51, 53, and 64

[CC Docket Nos. 95-20; 98-10; DA 01-620]

Update and Refresh Record on Computer III Requirements

AGENCY: Federal Communications Commission.

ACTION: Proposed rule.

SUMMARY: This document invites parties to update and refresh the record on issues raised in the Computer III Further Notice of Proposed Rulemaking that the Commission issued on January 30, 1998.

DATES: Comments are due April 16, 2001, and reply comments are due April 30, 2001.

FOR FURTHER INFORMATION CONTACT: Jodie Donovan-May or Jessica Rosenworcel, Attorney Advisors, Policy and Program Planning Division, Common Carrier Bureau, (202) 418-1580.

SUPPLEMENTARY INFORMATION: This is a summary of the Commission's Public Notice regarding CC Docket Nos. 95-20 and 98-10, released on March 7, 2001. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC. It is also available on the Commission's website at http://www.fcc.gov.

Synopsis of Public Notice

1. On January 30, 1998, the Commission released a Further Notice of Proposed Rulemaking (FNPRM) in CC Docket Nos. 95-20 and 98-10 (63 FR 9749, Feb. 26, 1998) in which it sought comment on the interplay between the safeguards and terminology established in the Telecommunications Act of 1996 (1996 Act) and the Computer III regime. In its Computer III proceedings, the Commission established nonstructural safeguards for the provision of enhanced services by the Bell Operating Companies (BOCs). The FNPRM sought information necessary to respond to a remand from the United States Court of Appeals for the Ninth Circuit regarding the effectiveness of nonstructural safeguards. It also asked for comment on a number of other issues, including, the continued application of the Computer III safeguards to BOC provision of enhanced services, whether implementation of the 1996 Act should alleviate the Ninth Circuit's concern about the level of unbundling mandated by the Commission Open Network Architecture (ONA), whether ONA has been effective in providing competitive information service providers (ISPs) with access to basic telecommunications services and whether the ONA requirements should be modified, whether the Commission, under its general rulemaking authority should extend to ISPs some or all unbundling rights available under section 251 of the 1996 Act, and whether the Commission should interpret its definition of the term “basic service” and the 1996 Act's definition of “telecommunication service” to extend to the same function. The Public Notice invites parties to update and refresh the record on these issues.

2. In addition to commenting generally on the outstanding issues, parties should discuss specifically any developments in the ISP market since 1998 that the Commission should consider in re-examining the effectiveness of the Computer III and ONA requirements. For example, in response to the Commission's inquiry regarding how the deployment of new information services, such as Internet services, should affect our analysis of the ONA rules, we seek comment on whether ISPs can obtain, under the ONA framework, the telecommunications service inputs that they require from the BOCs, including Digital Subscriber Line (DSL) service. If ISPs use means other than ONA to acquire DSL service, commenters should identify such alternatives and discuss whether they offer a more effective and efficient approach for obtaining the required service. In addition, we ask parties to comment on whether there are adequate Comparably Efficient Interconnection (CEI) plans in place for DSL service, and on whether they use those plans. With regard to the various annual and nondiscrimination reporting requirements mandated under Computer III, we also ask parties to comment on whether the requirements should be modified in any way to account for the current services that ISPs require from the BOCs. We also ask ISPs to describe the extent to which they may have used ONA to provide any information service over the course of the past three years, and correspondingly, ask the BOCs to comment generally on the numbers and types of requests for ONA services that they have received during this time.

3. With regard to the various annual and nondiscrimination reporting requirements mandated under Computer III, we also ask parties to comment on whether the requirements should be modified in any way to account for the current services that ISPs require from the BOCs. We also ask ISPs to describe the extent to which they may have used ONA to provide any information service over the course of the past three years, and correspondingly, ask the BOCs to comment generally on the numbers and types of requests for ONA services that they have received during this time. The Commission also asks parties to comment on whether there is a way to make any safeguards that we adopt in this proceeding more self-enforcing, or otherwise structure them so that they can be implemented and used by all parties in a timely, efficient manner.

4. The FNPRM sought comment on the extent to which the Commission's unbundling requirements promulgated pursuant to section 251 of the 1996 Act should alleviate the Ninth Circuit's concerns about the level of unbundling required under ONA. We note that the Commission's unbundling requirements changed in light of the U.S. Supreme Court's 1999 ruling regarding the standard under which incumbent local exchange carriers should be required to unbundle their networks (see 65 FR 2542, Jan. 18, 2000), and we ask parties to comment on how the new rules and any resulting changes in the marketplace may affect our analysis in the FNPRM.

5. The FNPRM also sought comment on issues related to the ability of BOCs to provide both interLATA and intraLATA information services through a separate affiliate created pursuant to section 272 or 274 of the 1996 Act. It further stated that once the separation requirements under section 272 and 274 sunset, structural separation for intraLATA information services based on the existence of the statutorily-mandated affiliate would have to be reexamined. The relevant separation requirements in Section 272 and 274 did sunset on February 8, 2000, and we therefore seek comment on this development.

List of Subjects

47 CFR Parts 51

Communications common carriers, Interconnection.

47 CFR Part 53

Bell Operating Companies, Communications common carriers, InterLATA services, Separate affiliate safeguards, Telephone.

47 CFR Part 64

Communications common carriers, reporting and recordkeeping requirements, Telephone.

Federal Communications Commission.
Michelle Carey,
Chief, Policy and Program Planning Division, Common Carrier Bureau.

[FR Doc. 01-6411 Filed 3-14-01; 8:45 am]

BILLING CODE 6712-01-U